DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Stephenson County, Illinois, and Incorporated Areas
Docket No.: FEMA-B-1087
Indian Creek | Approximately 0.61 mile upstream of State Route 73 | +782 | Unincorporated Areas of Stephenson County.
| Approximately 0.78 mile upstream of State Route 73 | +782
Pecatonica River | Approximately 1.2 miles downstream of North Rock City Road | +749 | Village of Ridott.
| Approximately 1.93 miles upstream of North Rock City Road | +754
Pecatonica River | Approximately 0.43 mile downstream of State Route 75 (Stephenson Street) | +762 | City of Freeport.
| Approximately 4.0 miles upstream of State Route 26 | +767
Pecatonica River | Approximately 1.61 miles upstream of West McConnell Road | +779 | Unincorporated Areas of Stephenson County.
| At the Illinois/Wisconsin State boundary | +782
Yellow Creek | Approximately 400 feet downstream of Pearl City Road | +814 | Unincorporated Areas of Stephenson County.
| Approximately 0.49 mile upstream of Pearl City Road | +815
* National Geodetic Vertical Datum.
+ North American Vertical Datum.
# Depth in feet above ground.
‸ Mean Sea Level, rounded to the nearest 0.1 meter.
ADDRESSES
City of Freeport
Maps are available for inspection at City Hall, 230 West Stephenson Street, Freeport, IL 61032.
Unincorporated Areas of Stephenson County
Maps are available for inspection at the Stephenson County Courthouse, 15 North Galena Avenue, Freeport, IL 61032.
Village of Ridott
Maps are available for inspection at the Village Hall, 200 East 3rd Street, Ridott, IL 61607.
Moniteau County, Missouri, and Incorporated Areas
Docket No.: FEMA-B-1087
Missouri River | Approximately 3,000 feet upstream of the Cole County boundary | +574 | City of Lupus, Unincorporated Areas of Moniteau County
| Approximately 375 feet downstream of the Cooper County boundary | +587
* National Geodetic Vertical Datum.
+ North American Vertical Datum.
# Depth in feet above ground.
‸ Mean Sea Level, rounded to the nearest 0.1 meter.
ADDRESSES
City of Lupus
Maps are available for inspection at 3750 Main Street, Lupus, MO 65046.
Unincorporated Areas of Moniteau County.
Maps are available for inspection at 200 East Main Street, California, MO 65018.
Highland County, Ohio, and Incorporated Areas
Docket No.: FEMA-B-1085
Clear Creek | Approximately 1.4 miles upstream of State Route 138 | +938 | City of Hillsboro, Unincorporated Areas of Highland County.
| Approximately 2.0 miles upstream of State Route 138 | +943
Turtle Creek | At the confluence with East Fork Little Miami River | +985 | Unincorporated Areas of Highland County.
| Just downstream of Sycamore Street | +991
| Approximately 1,840 feet upstream of Sycamore Street | +996
| Approximately 0.4 mile upstream of Sycamore Street | +996
* National Geodetic Vertical Datum.
+ North American Vertical Datum.
# Depth in feet above ground.
‸ Mean Sea Level, rounded to the nearest 0.1 meter.
ADDRESSES
City of Hillsboro
Maps are available for inspection at City Hall, 130 North High Street, Hillsboro, OH 45133.
Unincorporated Areas of Highland County
Maps are available for inspection at 119 Governor Foraker Place, Suite 206, Highland, OH 45133.

(Catalog of Federal Domestic Assistance No. 97.022, “Flood Insurance.”)

Dated: December 27, 2010.
Sandra K. Knight,
Deputy Federal Insurance and Mitigation Administrator, Mitigation, Department of Homeland Security, Federal Emergency Management Agency.

[FR Doc. 2011-131 Filed 1-6-11; 8:45 am]

BILLING CODE 9110-12-P